DEPARTMENT OF TRANSPORTATION

Coast Guard

33 CFR Part 117

[CGD08-01-008]

Drawbridge Operating Regulation; Lake Pontchartrain, LA

AGENCY: Coast Guard, DOT.

ACTION: Notice of temporary deviation from regulations.

SUMMARY: The Commander, Eighth Coast Guard District, has issued a temporary deviation from the regulation governing the operation of the north bascule span of the US 11 bridge across Lake Pontchartrain between New Orleans and Slidell, Orleans and St. Tammany Parishes, Louisiana. This deviation allows one leaf of the north bascule span of the US 11 bridge to be maintained in the closed-to-navigation position continuously from 1 a.m. on Monday, May 1, 2001 until 6 p.m. on Friday, June 29, 2001. This temporary deviation was issued to allow for the replacement of the south leaf trunnions of the north channel bascule span and the cleaning and painting of both leaves of the bascule span. Presently, the draw opens on signal for the passage of vessels.

DATES: This deviation is effective from 1 a.m. on Monday, May 1, 2001 through 6 p.m. on Friday, June 29, 2001.

ADDRESSES: Unless otherwise indicated, documents referred to in this notice are available for inspection or copying at the office of the Eighth Coast Guard District, Bridge Administration Branch, Commander (ob), Eighth Coast Guard District, 501 Magazine Street, New Orleans, Louisiana, 70130-3396. The Bridge Administration Branch of the Eighth Coast Guard District maintains the public docket for this temporary deviation.

FOR FURTHER INFORMATION CONTACT: David Frank, Bridge Administration Branch, telephone (504) 589-2965.

SUPPLEMENTARY INFORMATION: The US 11 bascule bridge across Lake Pontchartrain, between New Orleans and Slidell, has a vertical clearance of 13 feet above mean high water in the closed-to-navigation position and unlimited in the open-to-navigation position. Navigation on the waterway consists of tugs with tows, fishing vessels, sailing vessels, and other recreational craft. The Louisiana Department of Transportation and Development requested a temporary deviation from the normal operation of the drawbridge in order to accommodate the repair and maintenance work including the cleaning and painting of both leaves of the north channel bascule. A similar span restriction occurred in 2000 for the replacement of the north leaf trunnions of the north channel bascule span. During that closure, traffic was able to pass with little inconvenience.

This deviation allows one of the leaves of the north channel bascule span of the US 11 bridge across Lake Pontchartrain, between New Orleans and Slidell, Orleans and St. Tammany Parishes, Louisiana, to be maintained in the closed-to-navigation position continuously from 1 a.m. on Monday, May 1, 2001 until 6 p.m. on Friday, June 29, 2001.

Dated: March 27, 2001.
J.C. Van Sice,
Captain, U.S. Coast Guard, Commander, 8th Coast Guard District, Acting.

[FR Doc. 01-8638 Filed 4-6-01; 8:45 am]

BILLING CODE 4910-15-P